DEPARTMENT OF TRANSPORTATION

Maritime Administration

[Docket Number MARAD 2010 0115]

Finding of No Significant Impact (FONSI) for the Beaumont Layberth Facility

AGENCY: U.S. Department of Transportation, Maritime Administration.

ACTION: Notice of Availability of Finding of No Significant Impact.

SUMMARY: Notice is hereby given that the Maritime Administration, of the U.S. Department Transportation (US DOT) has made available to interested parties the Finding of No Significant Impact (FONSI) for the Beaumont Layberth Facility. An environmental assessment (EA) and FONSI have been prepared pursuant to the National Environmental Policy Act (NEPA) (42 U.S.C. 4321 et seq.) in accordance with the Council on Environmental Quality (CEQ) regulations for implementing the procedural provisions of NEPA (40 CFR 1500-1508).

The purpose of the EA is to evaluate the potential environmental impacts from the construction of a Layberth facility that can accommodate eight Large Medium Speed Roll-on/Roll-off sized vessels at the Beaumont National Defense Reserve Fleet anchorage. A preliminary cost feasibility assessment determined that building a permanent Layberth facility would be more cost-effective over the long term than using commercial Layberth facilities.

FOR FURTHER INFORMATION CONTACT: Kris Gilson 1200 New Jersey Ave., SE., Washington, DC 20590; phone (202) 366-1939; or e-mail Kristine.gilson@dot.gov. Persons who use a telecommunications device for the deaf (TDD) may call the Federal Information Relay Service (FIRS) at 1-800-877-8339 to contact the above individuals during business hours. The FIRS is available twenty-four hours a day, seven days a week, to leave a message or question with the above individuals. You will receive a reply during normal business hours. A copy of the Final EA and Finding of No Significant Impact can be obtained or viewed online at http://www.regulations.gov. The files are in a portable document format (pdf); in order to review or print the document, users need to obtain a free copy of Acrobat Reader. The Acrobat Reader can be obtained from http://www.adobe.com/prodindes/acrobat/readstep.html.

By Order of the Maritime Administrator.
Dated: March 31, 2011.
Christine Gurland,
Secretary, Maritime Administration.

[FR Doc. 2011-8080 Filed 4-6-11; 8:45 am]

BILLING CODE P